INTERNATIONAL TRADE COMMISSION

[Investigation No. 337-TA-513]

In the Matter of Certain Electronic Devices, Including Power Adapters, Power Converters, External Batteries, and Detachable Tips, Used to Power and/or Charge Mobile Electronic Products, and Components Thereof; Notice of a Commission Determination Not to Review an Initial Determination Granting a Motion To Withdraw the Complaint and Terminate the Investigation; Termination of Investigation

AGENCY: U.S. International Trade Commission.

ACTION: Notice.

SUMMARY: Notice is hereby given that the U.S. International Trade Commission has determined not to review the presiding administrative law judge's (“ALJ's”) initial determination (“ID”) granting a motion to withdraw the complaint and terminate the above-captioned investigation.

FOR FURTHER INFORMATION CONTACT: Timothy P. Monaghan, Esq., Office of the General Counsel, U.S. International Trade Commission, 500 E Street, SW., Washington, DC 20436, telephone 202-205-3152. Copies of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation, which concerns allegations of unfair acts in violation of section 337 in the importation and sale of certain electronic devices, including power adapters, power converters, external batteries and detachable tips, used to power and/or charge mobile electronic products, and components thereof on June 14, 2004, based on a complaint filed by Mobility Electronics, Inc., of Scottsdale, Arizona (“Mobility”). 69 FR 33069 (June 14, 2004). The respondents named in the notice of investigation were Formosa Electronics Industries, Inc., of Hsin-Tien City, Taipei Hsien, Taiwan; Micro Innovations, Inc., Edison, New Jersey; and SPS, Inc., Republic of Korea. Mobility's complaint alleged that respondents' products infringed claims of 4 different patents held by Mobility.

On September 28, 2004, the presiding ALJ issued an ID (Order No. 5) granting a joint motion of Mobility and SPS, Inc. to terminate the investigation as to SPS, Inc. on the basis of a settlement agreement. On October 20, 2004, the Commission determined not to review Order No. 5.

On October 22, 2004, complainant Mobility filed a motion pursuant to Commission rule 210.21(a) (19 CFR 210.21(a)) to terminate the investigation on the basis of withdrawal of the complaint. On November 1, 2004, the presiding ALJ issued the subject ID (Order No. 8) granting Mobility's motion to terminate the investigation.

No party filed a petition for review of the subject ID.

The authority for the Commission's determination is contained in section 337 of the Tariff Act of 1930, as amended (19 U.S.C. 1337), and in section 210.42 of the Commission's Rules of Practice and Procedure (19 CFR 210.42).

By order of the Commission.
Issued: November 16, 2004.
Marilyn R. Abbott,
Secretary to the Commission.

[FR Doc. 04-25735 Filed 11-18-04; 8:45 am]

BILLING CODE 7020-02-P